ENVIRONMENTAL PROTECTION AGENCY

[FRL-6972-7]

Agency Information Collection Activities: Submission for OMB Review; Comment Request; Regulations for a Voluntary Emissions Standards Program Applicable to Manufacturers of Light-Duty Vehicles and Trucks Beginning in Model Year 1997

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Regulations for a Voluntary Emissions Standards Program Applicable to Manufacturers of Light-Duty Vehicles and Trucks Beginning in Model Year 1997, OMB Control Number 2060-0345, expiration date 04/30/01. The ICR describes the nature of the information collection and its expected burden and cost; where appropriate, it includes the actual data collection instrument.

DATES: Comments must be submitted on or before June 1, 2001.

ADDRESSES: Send comments, referencing EPA ICR No. 1761.03 and OMB Control No. 2060-0345, to the following addresses: Sandy Farmer, U.S. Environmental Protection Agency, Collection Strategies Division (Mail Code 2822), 1200 Pennsylvania Avenue, NW., Washington, DC 20460-0001; and to the Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer,sandy@epamail.epa.gov, or download off the Internet at http://www.epa.gov/icr and refer to EPA ICR No. 1761.03. For technical questions about the ICR contact: Chestine Payton, Office of Transportation and Air Quality, Certification and Compliance Division, (202) 564-9328, fax (202) 565-2057. E-mail address: payton,chestine@epa.gov.

SUPPLEMENTARY INFORMATION: Regulations for a Voluntary Emissions Standards Program Applicable to Manufacturers of Light-Duty Vehicles and Trucks Beginning in Model Year 1997 (OMB #2060-0345, approved through 04/30/01). This is a request for extension of a currently approved collection.

Abstract: The information collection is conducted to support averaging, banking, and trading provisions included in the National Low Emission Vehicle (LEV) program. These averaging, banking, and trading provisions give the automobile manufacturers a measure of flexibility in meeting the fleet average Non-methane organic gas (NMOG) standards and the five-percent cap on Tier 1 vehicles and transitional low emission vehicles (TLEVs) in the ozone transport region (OTR). EPA will use the reported data to calculate credits and debits and otherwise ensure compliance with the applicable production levels and emissions standards. When a manufacturer opted into the Voluntary National LEV program, reporting will be mandatory.

Manufacturers submit information regarding the annual sales, calculation, generation, and usage of emission credits in an annual report. In addition, upon transferring credits to another manufacturer, the manufacturer submits this information along with their annual report. This information will be submitted to EPA in annual reports and will involve approximately 18 respondents at a total annual cost of about $580,212.

EPA currently has in place an Information Collection Request (ICR) and clearance for annual sales/production reporting for light-duty vehicles and trucks. This ICR reflects additional requirements to collate the annual sales/production data and implement the credit calculation program.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on February 21, 2001 (66 FR 11020); no comments were received.

Burden Statement: The annual public reporting and record keeping burden for this collection of information is estimated to average 241 hours per response. Burden means the total time, effort, or financial resources expended by persons to generate, maintain, retain, or disclose or provide information to or for a federal agency. This includes the time needed to review instructions; develop, acquire, install, and utilize technology and systems for the purpose of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of light-duty vehicles and light-duty trucks.

Estimated Number of Respondents: 18.

Frequency of Response: Annually.

Estimated Total Annual Hour Burden Per Respondent: 4,338.

Estimated Total Annualized Capital, O&M Cost Burden: 0.

Send comments on the Agency's need for this information, the accuracy of the provided burden estimates, and any suggested methods for minimizing respondent burden, including through the use of automated collection techniques to the following address. Please refer to EPA ICR No. 1761.03 and OMB Control No. 2060-0345 in any correspondence.

Dated: April 20, 2001.
Oscar Morales,
Director, Collection Strategies Division.

[FR Doc. 01-10994 Filed 5-1-01; 8:45 am]

BILLING CODE 6560-50-P